DEPARTMENT OF HEALTH AND HUMAN SERVICES

Administration for Community Living

Solicitation for Nominations To Serve on the Family Caregiving Advisory Council

AGENCY: Administration for Community Living, HHS.

ACTION: Notice.

SUMMARY: The Secretary of Health & Human Services (Secretary) seeks nominations for individuals to serve on the Family Caregiving Advisory Council.

DATES: Nominations must be submitted by Monday December 3, 2018. (Nominations submitted via mail must be postmarked by Monday December 3, 2018).

ADDRESSES: You may submit nominations, including attachments, by either of the following methods:

(1) Email: Send to: RAISEAct@acl.hhs.gov (specify in the email subject line the name of the nominee)

(2) Mail or express delivery: Submit materials to: Family Caregiving Advisory Council, Administration for Community Living, 330 C Street SW, Washington, DC 20201.

For questions, contact Whitney Bailey at Whitney.Bailey@acl.hhs.gov.

SUPPLEMENTARY INFORMATION: The Family Caregiving Advisory Council (the Advisory Council) is authorized under Section 4 of the Recognize, Assist, Include, Support, and Engage Family Caregivers Act of 2017 (Pub. L. 115-119), commonly referred to as the “RAISE Family Caregivers Act.” The Advisory Council shall study and prepare findings, conclusions, and recommendations to the Secretary of Health & Human Services on: (a) Evidence-based or promising practices and innovative models for the provision of care by family caregivers or support for family caregivers; and (b) Improving coordination across federal government programs. The Advisory Council also will advise and provide recommendations to the Secretary of Health & Human Services on recognizing and supporting family caregivers. The Advisory Council will consist of at least three ex officio members: The Administrator of the Centers for Medicare & Medicaid Services (or the Administrator's designee); the Administrator of the Administration for Community Living (or the Administrator's designee who has experience with both aging and disability); and the Secretary of Veterans Affairs (or the Secretary's designee). Heads of other federal departments or agencies (or their designees) also may be appointed as ex officio members. In addition, the Secretary will appoint a maximum of fifteen voting members with at least one from each of the following constituencies: family caregivers; older adults who need long-term services and supports; individuals with disabilities; health care and social service providers; providers of long-term services and supports; employers; paraprofessional workers; state and local officials; accreditation bodies; veterans; and as appropriate, other experts and advocacy organizations engaged in family caregiving. The membership of the Advisory Council will reflect the diversity of family caregivers and individuals receiving services and supports.

Advisory Council Responsibilities: The Advisory Council is required to meet quarterly during its first year and at least three times each year thereafter. Meetings will be open to the public. Advisory Council members will be expected to meaningfully and substantively participate in at least one subcommittee, which will meet periodically between meetings of the full Advisory Council. Within 12 months, the Advisory Council will develop an initial report that includes: (a) An inventory and assessment of all federally funded efforts to recognize and support family caregivers and the outcomes of such efforts, including analyses of the extent to which federally funded efforts are reaching family caregivers and gaps in such efforts; (b) Recommendations to improve and better coordinate federal programs and activities to recognize and support family caregivers, as well as opportunities to improve the coordination of federal and state programs and activities; (c) Recommendations to effectively deliver services based on the performance, mission, and purpose of a program, while eliminating redundancies, avoiding unnecessary duplication and overlap, and ensuring the needs of family caregivers are met; (d) Identification of challenges faced by family caregivers, including financial, health, and other challenges, and existing approaches to address such challenges; and (e) An evaluation of how family caregiving impacts Medicare, Medicaid, and other federal programs. The initial report will be used by the U.S. Department of Health and Human Services to inform the development of a national family caregiving strategy (the strategy), which will be updated biennially. To that end, the Advisory Council shall recommend actions that may be taken by the federal government (under existing programs), state and local governments, communities, health care providers, long-term services and supports providers, and others to recognize and support family caregivers in a manner that reflects their diverse needs. Once the strategy has been published, the Advisory Council will support the preparation of biennial updates, which will include: new developments, challenges, opportunities, and solutions; as well as recommendations for priority actions to improve the implementation of the strategy, as appropriate. In addition, the Advisory Council will submit an annual report on the development, maintenance, and updating of the strategy. The report will include a description of the implementation of the actions recommended in the initial report, as appropriate. This report will be provided to the Secretary, Congress, and the state agencies responsible for carrying out family caregiver programs. The completion of all described activities is dependent upon the identification of federal funding that can be utilized for the purposes of carrying out the legislation.

Nomination Process: Any person or organization may nominate one or more qualified individuals for membership. Nomination packages must include: (1) A nomination letter not to exceed one (1) page that provides the reason(s) for nominating the individual, the constituency they represent (from the list above; may be more than one), and the nominee's particular relevant experience and/or professional expertise; (2) Contact information for the nominee (name, title (if applicable), address, phone, and email address); and (3) The nominee's resume (not to exceed two (2) pages), if the nomination is based on their professional capacity or qualifications. A resume is optional otherwise. Nominees will be appointed based on their demonstrated knowledge, qualifications, and professional or personal experience related to the purpose and scope of the Advisory Council. Members will be appointed for the full life of the Advisory Council, which will sunset in January 2021. Members appointed to fill subsequent vacancies will be appointed for the remainder of the life of the Advisory Council.

Dated: October 4, 2018.
Lance Robertson,
Administrator and Assistant Secretary for Aging.

[FR Doc. 2018-22268 Filed 10-11-18; 8:45 am]

BILLING CODE 4154-01-P